DEPARTMENT OF AGRICULTURE

Rural Housing Service

Notice of Funds Availability (NOFA) for Section 514 Farm Labor Housing Loans and Section 516 Farm Labor Housing Grants for Off-Farm Housing for Fiscal Year 2003; Correction

AGENCY: Rural Housing Service (RHS), USDA.

ACTION: Notice; correction.

SUMMARY: The Rural Housing Service (RHS) corrects a notice published May 16, 2003 (68 FR 26941-26943). This action is taken to remove references to the application deadline of August 14, 2003.

Accordingly, the notice published May 16, 2003 (68 FR 26941-26943), is corrected as follows:

On page 26941, in the third column, in the 30th line of the SUMMARY, remove the sentence reading “This Notice changes the timeframe to submit applications for the Section 514 Farm Labor Housing Loans and Section 516 Farm Labor Housing Grants for Off-Farm Housing for Fiscal Year 2003 to be August 14, 2003.”.

On page 26942, in the third column, under “Application Process”, in the eighth line, remove the sentence reading “No application will be accepted after 5 p.m., local time, on August 14, 2003 unless date and time is extended by another Notice published in the Federal Register.”.

Dated: June 18, 2003.
Arthur A. Garcia,
Administrator, Rural Housing Service.

[FR Doc. 03-15824 Filed 6-23-03; 8:45 am]

BILLING CODE 3410-XV-P